DEPARTMENT OF HOMELAND SECURITY

Federal Emergency Management Agency

[Docket ID FEMA-2016-0002]

Final Flood Hazard Determinations

AGENCY: Federal Emergency Management Agency, DHS.

ACTION: Final notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The effective date of July 6, 2016 which has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at www.msc.fema.gov by the effective date indicated above.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at www.msc.fema.gov.

The flood hazard determinations are made final in the watersheds and/or communities listed in the table below.

(Catalog of Federal Domestic Assistance No. 97.022, “Flood Insurance.”)

Dated: March 20, 2016.
Roy E. Wright,
Deputy Associate Administrator for Insurance and Mitigation, Department of Homeland Security, Federal Emergency Management Agency.

Community | Community map repository address
Town of Fort Kent, Aroostook County, Maine
Docket No.: FEMA-B-1299
Town of Fort Kent | 416 West Main Street, Fort Kent, ME 04743.
Knox County, Maine (All Jurisdictions)
Docket No.: FEMA-B-1415
Andrews Island | Land Use Planning Commission, Maine Department of Agriculture, Conservation and Forestry, 18 Elkins Lane/Harlow Building, 4th floor, State House Station 22, Augusta, ME 04333.
Bar Island | Land Use Planning Commission, Maine Department of Agriculture, Conservation and Forestry, 18 Elkins Lane/Harlow Building, 4th floor, State House Station 22, Augusta, ME 04333.
Birch Island | Land Use Planning Commission, Maine Department of Agriculture, Conservation and Forestry, 18 Elkins Lane/Harlow Building, 4th floor, State House Station 22, Augusta, ME 04333.
Brig Ledge | Land Use Planning Commission, Maine Department of Agriculture, Conservation and Forestry, 18 Elkins Lane/Harlow Building, 4th floor, State House Station 22, Augusta, ME 04333.
Camp Cove Ledge | Land Use Planning Commission, Maine Department of Agriculture, Conservation and Forestry, 18 Elkins Lane/Harlow Building, 4th floor, State House Station 22, Augusta, ME 04333.
Camp Island | Land Use Planning Commission, Maine Department of Agriculture, Conservation and Forestry, 18 Elkins Lane/Harlow Building, 4th floor, State House Station 22, Augusta, ME 04333.
City of Rockland | City Hall, 270 Pleasant Street, Rockland, ME 04841.
Clam Ledges | Land Use Planning Commission, Maine Department of Agriculture, Conservation and Forestry, 18 Elkins Lane/Harlow Building, 4th floor, State House Station 22, Augusta, ME 04333.
Crescent Island | Land Use Planning Commission, Maine Department of Agriculture, Conservation and Forestry, 18 Elkins Lane/Harlow Building, 4th floor, State House Station 22, Augusta, ME 04333.
Crow Island | Land Use Planning Commission, Maine Department of Agriculture, Conservation and Forestry, 18 Elkins Lane/Harlow Building, 4th floor, State House Station 22, Augusta, ME 04333.
Dix Island | Land Use Planning Commission, Maine Department of Agriculture, Conservation and Forestry, 18 Elkins Lane/Harlow Building, 4th floor, State House Station 22, Augusta, ME 04333.
East Goose Rock | Land Use Planning Commission, Maine Department of Agriculture, Conservation and Forestry, 18 Elkins Lane/Harlow Building, 4th floor, State House Station 22, Augusta, ME 04333.
Egg Rock | Land Use Planning Commission, Maine Department of Agriculture, Conservation and Forestry, 18 Elkins Lane/Harlow Building, 4th floor, State House Station 22, Augusta, ME 04333.
Fisherman Island | Land Use Planning Commission, Maine Department of Agriculture, Conservation and Forestry, 18 Elkins Lane/Harlow Building, 4th floor, State House Station 22, Augusta, ME 04333.
Flag Island | Land Use Planning Commission, Maine Department of Agriculture, Conservation and Forestry, 18 Elkins Lane/Harlow Building, 4th floor, State House Station 22, Augusta, ME 04333.
Goose Island | Land Use Planning Commission, Maine Department of Agriculture, Conservation and Forestry, 18 Elkins Lane/Harlow Building, 4th floor, State House Station 22, Augusta, ME 04333.
Gooseberry Knob | Land Use Planning Commission, Maine Department of Agriculture, Conservation and Forestry, 18 Elkins Lane/Harlow Building, 4th floor, State House Station 22, Augusta, ME 04333.
Graffam Island | Land Use Planning Commission, Maine Department of Agriculture, Conservation and Forestry, 18 Elkins Lane/Harlow Building, 4th floor, State House Station 22, Augusta, ME 04333.
Great Pond Island | Land Use Planning Commission, Maine Department of Agriculture, Conservation and Forestry, 18 Elkins Lane/Harlow Building, 4th floor, State House Station 22, Augusta, ME 04333.
Green Ledge | Land Use Planning Commission, Maine Department of Agriculture, Conservation and Forestry, 18 Elkins Lane/Harlow Building, 4th floor, State House Station 22, Augusta, ME 04333.
Herring Ledge | Land Use Planning Commission, Maine Department of Agriculture, Conservation and Forestry, 18 Elkins Lane/Harlow Building, 4th floor, State House Station 22, Augusta, ME 04333.
Hewett Island | Land Use Planning Commission, Maine Department of Agriculture, Conservation and Forestry, 18 Elkins Lane/Harlow Building, 4th floor, State House Station 22, Augusta, ME 04333.
High Island | Land Use Planning Commission, Maine Department of Agriculture, Conservation and Forestry, 18 Elkins Lane/Harlow Building, 4th floor, State House Station 22, Augusta, ME 04333.
High Ledge | Land Use Planning Commission, Maine Department of Agriculture, Conservation and Forestry, 18 Elkins Lane/Harlow Building, 4th floor, State House Station 22, Augusta, ME 04333.
Hog Island | Land Use Planning Commission, Maine Department of Agriculture, Conservation and Forestry, 18 Elkins Lane/Harlow Building, 4th floor, State House Station 22, Augusta, ME 04333.
Large Green Island | Land Use Planning Commission, Maine Department of Agriculture, Conservation and Forestry, 18 Elkins Lane/Harlow Building, 4th floor, State House Station 22, Augusta, ME 04333.
Lasell Island | Land Use Planning Commission, Maine Department of Agriculture, Conservation and Forestry, 18 Elkins Lane/Harlow Building, 4th floor, State House Station 22, Augusta, ME 04333.
Little Green Island | Land Use Planning Commission, Maine Department of Agriculture, Conservation and Forestry, 18 Elkins Lane/Harlow Building, 4th floor, State House Station 22, Augusta, ME 04333.
Little Hurricane Island | Land Use Planning Commission, Maine Department of Agriculture, Conservation and Forestry, 18 Elkins Lane/Harlow Building, 4th floor, State House Station 22, Augusta, ME 04333.
Little Pond Island | Land Use Planning Commission, Maine Department of Agriculture, Conservation and Forestry, 18 Elkins Lane/Harlow Building, 4th floor, State House Station 22, Augusta, ME 04333.
Little Two Bush Island | Land Use Planning Commission, Maine Department of Agriculture, Conservation and Forestry, 18 Elkins Lane/Harlow Building, 4th floor, State House Station 22, Augusta, ME 04333.
Marblehead Island | Land Use Planning Commission, Maine Department of Agriculture, Conservation and Forestry, 18 Elkins Lane/Harlow Building, 4th floor, State House Station 22, Augusta, ME 04333.
Mark Island | Land Use Planning Commission, Maine Department of Agriculture, Conservation and Forestry, 18 Elkins Lane/Harlow Building, 4th floor, State House Station 22, Augusta, ME 04333.
Matinicus Isle Plantation | Community Office, 17 South Road, Matinicus, ME 04853.
Metinic Green Island | Land Use Planning Commission, Maine Department of Agriculture, Conservation and Forestry, 18 Elkins Lane/Harlow Building, 4th floor, State House Station 22, Augusta, ME 04333.
Metinic Island | Land Use Planning Commission, Maine Department of Agriculture, Conservation and Forestry, 18 Elkins Lane/Harlow Building, 4th floor, State House Station 22, Augusta, ME 04333.
Mink Island | Land Use Planning Commission, Maine Department of Agriculture, Conservation and Forestry, 18 Elkins Lane/Harlow Building, 4th floor, State House Station 22, Augusta, ME 04333.
Mouse Island | Land Use Planning Commission, Maine Department of Agriculture, Conservation and Forestry, 18 Elkins Lane/Harlow Building, 4th floor, State House Station 22, Augusta, ME 04333.
Nettle Island | Land Use Planning Commission, Maine Department of Agriculture, Conservation and Forestry, 18 Elkins Lane/Harlow Building, 4th floor, State House Station 22, Augusta, ME 04333.
Oak Island | Land Use Planning Commission, Maine Department of Agriculture, Conservation and Forestry, 18 Elkins Lane/Harlow Building, 4th floor, State House Station 22, Augusta, ME 04333.
Otter Island | Land Use Planning Commission, Maine Department of Agriculture, Conservation and Forestry, 18 Elkins Lane/Harlow Building, 4th floor, State House Station 22, Augusta, ME 04333.
Pleasant Island | Land Use Planning Commission, Maine Department of Agriculture, Conservation and Forestry, 18 Elkins Lane/Harlow Building, 4th floor, State House Station 22, Augusta, ME 04333.
Pudding Island | Land Use Planning Commission, Maine Department of Agriculture, Conservation and Forestry, 18 Elkins Lane/Harlow Building, 4th floor, State House Station 22, Augusta, ME 04333.
Ragged Island | Land Use Planning Commission, Maine Department of Agriculture, Conservation and Forestry, 18 Elkins Lane/Harlow Building, 4th floor, State House Station 22, Augusta, ME 04333.
Robinson Rock | Land Use Planning Commission, Maine Department of Agriculture, Conservation and Forestry, 18 Elkins Lane/Harlow Building, 4th floor, State House Station 22, Augusta, ME 04333.
Saddle Island | Land Use Planning Commission, Maine Department of Agriculture, Conservation and Forestry, 18 Elkins Lane/Harlow Building, 4th floor, State House Station 22, Augusta, ME 04333.
Seal Island | Land Use Planning Commission, Maine Department of Agriculture, Conservation and Forestry, 18 Elkins Lane/Harlow Building, 4th floor, State House Station 22, Augusta, ME 04333.
Shag Ledge | Land Use Planning Commission, Maine Department of Agriculture, Conservation and Forestry, 18 Elkins Lane/Harlow Building, 4th floor, State House Station 22, Augusta, ME 04333.
Spectacle Island | Land Use Planning Commission, Maine Department of Agriculture, Conservation and Forestry, 18 Elkins Lane/Harlow Building, 4th floor, State House Station 22, Augusta, ME 04333.
Tenpound Island | Land Use Planning Commission, Maine Department of Agriculture, Conservation and Forestry, 18 Elkins Lane/Harlow Building, 4th floor, State House Station 22, Augusta, ME 04333.
The Nubble | Land Use Planning Commission, Maine Department of Agriculture, Conservation and Forestry, 18 Elkins Lane/Harlow Building, 4th floor, State House Station 22, Augusta, ME 04333.
Town of Appleton | Town Office, 2915 Sennebec Road, Appleton, ME 04862.
Town of Camden | Town Office, 29 Elm Street, Camden, ME 04843.
Town of Cushing | Town Office, 39 Cross Road, Cushing, ME 04563.
Town of Friendship | Town Office, Six Harbor Road, Friendship, ME 04547.
Town of Hope | Town Office, 441 Camden Road, Hope, ME 04847.
Town of Isle au Haut | Town Office, One Main Street, Isle au Haut, ME 04645.
Town of North Haven | Town Office, 16 Town Office Square, North Haven, ME 04853.
Town of Owls Head | Town Office, 224 Ash Point Drive, Owls Head, ME 04854.
Town of Rockport | Town Office, 101 Main Street, Rockport, ME 04856.
Town of South Thomaston | Town Office, 125 Spruce Head Road, South Thomaston, ME 04858.
Town of St. George | Town Office, Three School Street, Tenants Harbor, ME 04860.
Town of Thomaston | Town Office, 170 Main Street, Thomaston, ME 04861.
Town of Union | Town Office, 567 Common Road, Union, ME 04862.
Town of Vinalhaven | Town Office, 19 Washington School Road, Vinalhaven, ME 04863.
Town of Warren | Town Office, 167 Western Road, Warren, ME 04864.
Town of Washington | Town Office, 40 Old Union Road, Washington, ME 04574.
Township of Criehaven | Land Use Planning Commission, Maine Department of Agriculture, Conservation and Forestry, 18 Elkins Lane/Harlow Building, 4th floor, State House Station 22, Augusta, ME 04333.
Township of Muscle Ridge | Land Use Planning Commission, Maine Department of Agriculture, Conservation and Forestry, 18 Elkins Lane/Harlow Building, 4th floor, State House Station 22, Augusta, ME 04333.
Two Bush Island | Land Use Planning Commission, Maine Department of Agriculture, Conservation and Forestry, 18 Elkins Lane/Harlow Building, 4th floor, State House Station 22, Augusta, ME 04333.
Wheaton Island | Land Use Planning Commission, Maine Department of Agriculture, Conservation and Forestry, 18 Elkins Lane/Harlow Building, 4th floor, State House Station 22, Augusta, ME 04333.
Wheeler Big Rock | Land Use Planning Commission, Maine Department of Agriculture, Conservation and Forestry, 18 Elkins Lane/Harlow Building, 4th floor, State House Station 22, Augusta, ME 04333.
Wooden Ball Island | Land Use Planning Commission, Maine Department of Agriculture, Conservation and Forestry, 18 Elkins Lane/Harlow Building, 4th floor, State House Station 22, Augusta, ME 04333.
Yellow Ledge | Land Use Planning Commission, Maine Department of Agriculture, Conservation and Forestry, 18 Elkins Lane/Harlow Building, 4th floor, State House Station 22, Augusta, ME 04333.
Middlesex County, Massachusetts (All Jurisdictions)
Docket No.: FEMA-B-1404
Town of Bedford | Town Hall, 10 Mudge Way, Bedford, MA 01730.
Town of Billerica | Town Hall, 365 Boston Road, Billerica, MA 01821.
Town of Burlington | Town Hall, 29 Center Street, Burlington, MA 01803.
Town of Lexington | Town Offices, 1625 Massachusetts Avenue, Lexington, MA 02420.
Town of Tewksbury | Town Hall, 1009 Main Street, Tewksbury, MA 01876.
Town of Wilmington | Town Hall, 121 Glen Road, Wilmington, MA 01887.
Doña Ana County, New Mexico, and Incorporated Areas
Docket No.: FEMA-B-1443
City of Anthony | City Hall, 820 Highway 478, Anthony, NM 88021.
City of Las Cruces | City Hall, 700 North Main Street, Las Cruces, NM 88001.
City of Sunland Park | City Hall, 1000 McNutt Road, Suite A, Sunland Park, NM 88063.
Town of Mesilla | Town Hall, 2231 Avenida de Mesilla, Mesilla, NM 88046.
Unincorporated Areas of Doña Ana County | Doña Ana County Office of the Flood Commission, 845 North Motel Boulevard, Las Cruces, NM 88007.
Village of Hatch | Village Hall, 133 North Franklin Street, Hatch, NM 87937.

[FR Doc. 2016-08049 Filed 4-7-16; 8:45 am]

BILLING CODE 9110-12-P